DEPARTMENT OF COMMERCE

International Trade Administration

[A-583-816]

Certain Stainless Steel Butt-Weld Pipe Fittings From Taiwan: Notice of Extension of Time Limit for the Final Results of Antidumping Duty Administrative Review

AGENCY: Import Administration, International Trade Administration, Department of Commerce.

SUMMARY: The Department of Commerce (the Department) is extending the time limit for the final results of the administrative review of the antidumping duty order on certain stainless steel butt-weld pipe fittings from Taiwan. The period of review is June 1, 2007, through May 31, 2008. This extension is made pursuant to section 751(a)(3)(A) of the Tariff Act of 1930, as amended (the Act).

DATES: Effective Date: November 12, 2009.

FOR FURTHER INFORMATION CONTACT: Angelica Mendoza or John Drury, Office 7, AD/CVD Operations, Import Administration, International Trade Administration, U.S. Department of Commerce, 14th Street and Constitution Avenue, NW., Washington, DC 20230, telephone: (202) 482-3019 and (202) 482-0195, respectively.

SUPPLEMENTARY INFORMATION:

Background

On July 8, 2009, the Department published the preliminary results of the administrative review of the antidumping duty order on certain stainless steel butt-weld pipe fittings from Taiwan covering the period June 1, 2007, through May 31, 2008. See Certain Stainless Steel Butt-Weld Pipe Fittings from Taiwan: Preliminary Results of Antidumping Duty Administrative Review, Notice of Intent to Rescind in Part, and Notice of Intent Not to Revoke Order in Part, 74 FR 32532 (July 8, 2009). The final results for the antidumping duty administrative review of certain stainless steel butt-weld pipe fittings from Taiwan are currently due no later than November 5, 2009.

Extension of Time Limits for Final Results

Section 751(a)(3)(A) of the Act requires the Department to issue the results in an administrative review within 120 days of the publication of the preliminary results. However, if it is not practicable to complete the review within this time period, section 751(a)(3)(A) of the Act allows the Department to extend the time limit for the final results up to 180 days (or 300 days if the Department does not extend the time limit for the preliminary results) from the date of publication of the preliminary results.

In accordance with section 751(a)(3)(A) of the Act and 19 CFR 351.213(h)(2), the Department finds that it is not practicable to complete the review within the original time frame (i.e., by November 5, 2009). Specifically, the Department requires additional time to review complex issues raised in the respondent Ta Chen Stainless Pipe Co. Ltd.'s case brief, including comments relating to the respondent's qualification for a constructed export price offset and the Department's use of facts available with respect to certain aspects of respondent's cost reporting. Because it is not practicable to complete this administrative review within the time limit mandated by section 751(a)(3)(A) of the Act and 19 CFR 351.213(h)(2), the Department is extending the time limit for completion of the final results of this administrative review by 32 days, to no later than December 7, 2009.

This notice is published pursuant to sections 751(a)(1) and 777(i)(1) of the Act.

Dated: November 5, 2009.
Edward C. Yang,
Acting Deputy Assistant Secretary for Antidumping and Countervailing Duty Operations.

[FR Doc. E9-27201 Filed 11-10-09; 8:45 am]

BILLING CODE 3510-DS-P